INTERNATIONAL TRADE COMMISSION

[Investigation No. 337-TA-1151]

Certain Photovoltaic Cells and Products Containing Same; Commission Decision Not To Review an Initial Determination Granting Complainants' Unopposed Motion To Amend the Complaint and Notice of Investigation

AGENCY: U.S. International Trade Commission.

ACTION: Notice.

SUMMARY: Notice is hereby given that the U.S. International Trade Commission has determined not to review an initial determination (“ID”) (Order No. 38) of the presiding administrative law judge (“ALJ”) granting complainants' unopposed motion to amend the complaint and notice of investigation (“NOI”) in the above-captioned investigation to substitute Hanwha Solutions Corporation (“HSC”) for Hanwha Q CELLS & Advanced Materials Corporation (“HQC-AMC”) as a complainant.

FOR FURTHER INFORMATION CONTACT: Clint Gerdine, Esq., Office of the General Counsel, U.S. International Trade Commission, 500 E Street SW, Washington, DC 20436, telephone (202) 708-2310. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on April 9, 2019, based on a complaint filed on behalf of Hanwha Q CELLS USA, Inc. of Dalton, Georgia and HQC-AMC of Seoul, Republic of Korea. 84 FR 14134-35 (April 9, 2019). The complaint alleges violations of section 337 of the Tariff Act of 1930, as amended, 19 U.S.C. 1337, based upon the importation into the United States, the sale for importation, and the sale within the United States after importation of certain photovoltaic cells and products containing same by reason of infringement of certain claims of U.S. Patent No. 9,893,215. The complaint further alleges the existence of a domestic industry. The Commission's notice of investigation named several respondents. The Office of Unfair Import Investigations is participating in the investigation.

On January 23, 2020, complainants filed an unopposed amended motion to amend the complaint and NOI to substitute HSC for HQC-AMC as a complainant.

The subject ID (Order No. 38) issued on January 30, 2020, granting complainants' motion to amend the complaint and NOI. The ID finds that good cause exists to grant the motion to amend under Commission Rule 210.14(b)(1) (19 CFR 210.14(b)(1)) because complainants' motion is unopposed. No petitions for review were filed.

The Commission has determined not to review the ID.

The authority for the Commission's determination is contained in section 337 of the Tariff Act of 1930, as amended, 19 U.S.C. 1337, and in part 210 of the Commission's Rules of Practice and Procedure, 19 CFR part 210.

By order of the Commission.
Issued: March 2, 2020.
Lisa Barton,
Secretary to the Commission.

[FR Doc. 2020-04579 Filed 3-5-20; 8:45 am]

BILLING CODE 7020-02-P